DEPARTMENT OF COMMERCE

U.S. Census Bureau

Proposed Information Collection; Comment Request; Collection of State Level Data on Nutrition Assistance

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 23, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Amy O'Hara, U.S. Census Bureau, 4600 Silver Hill Road, Room 6H007, Washington, DC 20233 (or via the Internet at Amy.B.OHara@census.gov.

SUPPLEMENTARY INFORMATION:

I. Abstract

The Census Bureau's Demonstration of Administrative Records Improving Surveys (DARIS) research project began in 2006 during the redesign of the Survey of Income and Program Participation (SIPP). The purpose of DARIS was to analyze direct and indirect uses of administrative data to enhance survey data. DARIS builds upon ten years of administrative data research that has demonstrated its value to State and Federal Agencies. Projects including the Medicaid Undercount Project, Earned Income Participation Rate Project, and research by the Chapin Hall Center at the University of Chicago have compared survey and program data. The Census Bureau benefits from these projects and the DARIS program by improving survey frames, developing model-based edits and allocations, and evaluating data quality over time. Collaborating agencies have benefited through access to reports and tabulations to better administer their programs.

Both the Census Bureau and the Food and Nutrition Service (FNS) of the United States Department of Agriculture (USDA) would like to build on the successes of the DARIS project by encouraging State and District of Columbia Agencies to share Nutrition Assistance data with the Census Bureau. Data sharing and analysis of linked files are solely for statistical purposes, not for enforcement purposes. The Nutrition Assistance data are and will remain confidential, whether in their original form or when comingled or linked.

The Census Bureau will link the Nutrition Assistance data with other records at the Census Bureau, including but not limited to data from the SIPP, Current Population Survey, and the American Community Survey. The linked data will be used to conduct research designed to help the Census Bureau improve its methods of collecting program participation data, as well as its record linking methods. This linkage will be accomplished using a unique linkage identifier called a Protected Identification Key (PIK). After the linkage is achieved, Personally Identifiable Information will be removed from the linked files. Processing to assign a PIK to each person record involves matching based on name, address, sex, date of birth, and Social Security Number (SSN) data. While States may share SSN for Nutrition Assistance recipients to improve the quality of the matching process, most Census Bureau surveys do not collect SSN thereby precluding an exact match. The validation of data processing and PIK process has been used by other internal and external Census Bureau research projects. Only Census Bureau staff conducting the record linkage will have access to files with the Personally Identifiable Information, and access to those files assigned a PIK will be limited to those with a need to know.

The Census Bureau will return tabulated Nutrition Assistance data to the FNS and the participating State Agencies. This information will help FNS and the State Agencies develop better measures of poverty, analyze the demographic characteristics of participants, review enrollment rates for those eligible for assistance, and analyze the effects of state programs on a variety of outcomes. The Census Bureau will benefit by using the Nutrition Assistance data to improve its Title 13, U.S. Code (U.S.C), authorized censuses and surveys. The Census Bureau will evaluate the quality of the linked data to: Improve Census Bureau household survey coverage; provide a basis for improving Census Bureau demographic survey program participation questions; gain a greater understanding of data quality collected in Census Bureau household surveys on food assistance program participation, household composition and income; and evaluate and improve data linking software and techniques in USDA food assistance program participation research.

II. Method of Collection

The Census Bureau will contact the State Agencies to discuss the research proposal and use of state agency administrative records. The State Agencies will set up agreements with the Census Bureau to provide Nutrition Assistance data. The State Agency will transfer State nutrition administrative records to the Census Bureau via secure File Transfer Protocol or appropriately encrypted CD-ROM or DVD-ROM. When the Census Bureau receives data from the source files, the data are processed to validate identifying information and unique person and address-matching identifiers appended. The administrative records data are then compared to current demographic survey data to evaluate coverage of the survey frame, assess data quality, and produce research papers. The Nutrition Assistance data will also be integrated into the Center for Administrative Records, Research and Applications (CARRA) administrative records infrastructure.

III. Data

OMB Control Number: None.

Form Number: Information will be collected in the form of a data transfer to the Census Bureau. No form will be used.

Type of Review: Regular submission.

Affected Public: State governments.

Estimated Number of Respondents: 51.

Estimated Time per Response: 75 hours.

Estimated Total Annual Burden Hours: 3,825 hours.

Estimated Total Annual Cost: $80,325.

Respondents Obligation: Voluntary.

Legal Authority: Title 13 U.S.C. Section 6 and 8(b).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 19, 2013.
Glenna Mickelson,
Management Analyst, Office of the Chief Information Officer.

[FR Doc. 2013-14987 Filed 6-21-13; 8:45 am]

BILLING CODE 3510-07-P